DEPARTMENT OF DEFENSE

Department of the Army

[Docket ID USA-2010-0023]

Privacy Act of 1974; System of Records

AGENCY: Department of the Army, DoD.

ACTION: Notice to alter a system of records.

SUMMARY: Department of the Army is altering a system of records notices in its existing inventory of record systems subject to the Privacy Act of 1974, (5 U.S.C. 552a), as amended.

DATES: This proposed action will be effective without further notice on December 3, 2010 unless comments are received which result in a contrary determination.

ADDRESSES: You may submit comments, identified by docket number and/Regulatory Information Number (RIN) and title, by any of the following methods:

• Federal Rulemaking Portal: http://www.regulations.gov. Follow the instructions for submitting comments.

• Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Department of the Army, Privacy Office, U.S. Army Records Management and Declassification Agency, 7701 Telegraph Road, Casey Building, Suite 144, Alexandria, VA 22325-3905, Mr. Leroy Jones at (703) 428-6185.

SUPPLEMENTARY INFORMATION: Department of the Army notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on October 20, 2010 to the House Committee on Government Reform, the Senate Committee on Homeland Security and Governmental Affairs, and the Office of Management and Budget (OMB) pursuant to paragraph 4c of Appendix I to OMB Circular No. A-130, “Federal Agency Responsibilities for Maintaining Records About Individuals,” February 20, 1996, 61 FR 6427.

Dated: October 26, 2010.
Morgan F. Park,
Alternate OSD Federal Register Liaison Officer, Department of Defense.

A0601-270 USMEPCOM DoD

SYSTEM NAME:

U.S. Military Processing Command Integrated Resources System (USMIRS) (February 25, 2005, 70 FR 9284).

CHANGES:

* * * * *

CATEGORIES OF RECORDS IN THE SYSTEM:

Delete entry and replace with “Various personal data, such as individual's name, Social Security Number (SSN) and unique record identifier, Alien Registration number, date and place of birth, home address and telephone number, results of aptitude tests, physical examination, background screening through the use of biometric modalities (iris, fingerprints, voice, palm, or facial) images/templates for identification, and relevant documentation concerning individual's acceptance/rejection for military service.”

AUTHORITY FOR MAINTENANCE OF THE SYSTEM:

Delete entry and replace with “10 U.S.C. 3013, Secretary of the Army, 10 U.S.C. 8013, Secretary of the Air Force, 10 U.S.C. 5013, Secretary of the Navy; DoD Directive 1145.2, United States Military Entrance Processing Command; Army Regulation 601-270/Air Force Regulation 33-7/Marine Corps Order P1100.75A, Military Entrance Processing Station (MEPS); USMEPCOM Regulation 680-3, U.S. Military Processing Command Integrated Resources System (USMIRS); and E.O. 9397 (SSN), as amended.”

* * * * *

RETENTION AND DISPOSAL:

Delete entry and replace with “Each MEPS retains a copy of reporting system source documents for each enlistee for 90 days after shipment. For all other applicants, each MEPS retains, if applicable, a copy of the Report of Medical Examination with supporting documentation, the Report of Medical History, and any other reporting source documents, for a period not to exceed 2 years. For qualification records, enlistment, commission, and induction quotas upon completion of initial military service obligation, for a period of 7 years (Keep in CFA until no longer needed for conducting business, then retire to RHA/AEA. The RHA/AEA will destroy record when the record is 7 years old). Medical and conduct disqualification records are maintained for 25 years or up to the individual's age of 42, whichever occurs first, after which they are destroyed. For acceptable applicants, originals or copies of documents are filed permanently in their official personnel file; the file is then transferred to the gaining Armed Forces. During medical examination written information prepared by the examining physician relating to the individual who becomes seriously ill or injured while at a MEPS, or were found disqualified for a condition considered dangerous to the individual's health if left untreated are kept for 2 years.”

* * * * *

NOTIFICATION PROCEDURE:

Delete entry and replace with “Individuals seeking to determine if information about themselves is contained in this system of records should address written inquiries to the Commander, U.S. Military Entrance Processing Command, FOIA/PA Officer (J-1/MHR-MS-SS), 2834 Green Bay Road, North Chicago, IL 60064-3094.

Individual should provide their full name, Social Security Number (SSN), and military status or other information verifiable from the record itself.

In addition, the requester must provide a notarized statement or an unsworn declaration made in accordance with 28 U.S.C. 1746, in the following format:

If executed outside the United States: ‘I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)’.

RECORD ACCESS PROCEDURES:

Delete entry and replace with “Individuals seeking access to records about themselves contained in this system of records should address written inquiries to the Commander, U.S. Military Entrance Processing Command, FOIA/PA Officer (J-1/MHR-MS-SS), 2834 Green Bay Road, North Chicago, IL 60064-3094.

Individual should provide their full name, Social Security Number (SSN), and military status or other information verifiable from the record itself.

On personal visits, individual should provide acceptable identification such as valid driver's license, employer identification card, building pass, etc.

In addition, the requester must provide a notarized statement or an unsworn declaration made in accordance with 28 U.S.C. 1746, in the following format:

If executed outside the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.”

CONTESTING RECORD PROCEDURES:

Delete entry and replace with “The Army's rules for accessing records, and for contesting contents and appealing initial agency determinations are published in the Department of the Army Regulation 340-21; 32 CFR part 505; or may be obtained from the system manager.”

* * * * *

A0601-270 USMEPCOM DoD

SYSTEM NAME:

U.S. Military Processing Command Integrated Resources System (USMIRS).

SYSTEM LOCATION:

Primary location: United States Military Entrance Processing Command, 2834 Green Bay Road, North Chicago, IL 60064-3094. Segments exist at 65 military entrance processing stations (MEPS) in the continental United States, Alaska, Puerto Rico, and Hawaii. Official mailing addresses are published as an appendix to the Army's compilation of record system notices.

CATEGORIES OF INDIVIDUALS COVERED BY THE SYSTEM:

All individuals who report to a military entrance test site or MEPS to be aptitudinally tested and/or medically examined to determine their fitness for entry into one of the Armed Services (i.e., Army, Air Force, Coast Guard, Marine Corps, and Navy).

CATEGORIES OF RECORDS IN THE SYSTEM:

Various personal data, such as individual's name, Social Security Number (SSN) and unique record identifier, Alien Registration number, date and place of birth, home address and telephone number, results of aptitude tests, physical examination, background screening through the use of biometric modalities (iris, fingerprints, voice, palm, or facial) images/templates for identification, and relevant documentation concerning individual's acceptance/rejection for military service.

AUTHORITY FOR MAINTENANCE OF THE SYSTEM:

10 U.S.C. 3013, Secretary of the Army, 10 U.S.C. 8013, Secretary of the Air Force, 10 U.S.C. 5013, Secretary of the Navy; DoD Directive 1145.2, United States Military Entrance Processing Command; Army Regulation 601-270/Air Force Regulation 33-7/Marine Corps Order P1100.75A, Military Entrance Processing Station (MEPS); USMEPCOM Regulation 680-3, U.S. Military Processing Command Integrated Resources System (USMIRS); and E.O. 9397 (SSN), as amended.

PURPOSE(S):

To determine qualifications of applicants for the Armed Forces through aptitude testing, medical examination, identity verification, background screening, and administrative processing. Records will also be used to determine patterns and trends in the military population, and for statistical analyses.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

Information is disclosed to the Selective Service System (SSS) to update the SSS registrant database.

Information may also be disclosed to local and state Government agencies for compliance with laws and regulations governing control of communicable diseases.

The DoD ‘Blanket Routine Uses’ set forth at the beginning of the Army's compilation of systems of records notices also apply to this system.

POLICIES AND PRACTICES FOR STORING, RETRIEVING, ACCESSING, RETAINING, AND DISPOSING OF RECORDS IN THE SYSTEM:

STORAGE:

Paper records in file folders and electronic storage media.

RETRIEVABILITY:

Individual's name, Social Security Number (SSN) or unique record identifier, and/or biometric images.

SAFEGUARDS:

All data is retained in locked rooms/compartments with access limited to personnel designated as having an official need therefore. Access to computerized data is by use of a valid user ID and password code assigned to the individual video display terminal operator.

RETENTION AND DISPOSAL:

Each MEPS retains a copy of reporting system source documents for each enlistee for 90 days after shipment. For all other applicants, each MEPS retains, if applicable, a copy of the Report of Medical Examination with supporting documentation, the Report of Medical History, and any other reporting source documents, for a period not to exceed 2 years. For qualification records, enlistment, commission, and induction quotas upon completion of initial military service obligation, for a period of 7 years (Keep in CFA until no longer needed for conducting business, then retire to RHA/AEA. The RHA/AEA will destroy record when the record is 7 years old). Medical and conduct disqualification records are maintained for 25 years or up to the individual's age of 42, whichever occurs first, after which they are destroyed. For acceptable applicants, originals or copies of documents are filed permanently in their official personnel file; the file is then transferred to the gaining Armed Forces. During medical examination written information prepared by the examining physician relating to the individual who becomes seriously ill or injured while at a MEPS, or were found disqualified for a condition considered dangerous to the individual's health if left untreated are kept for 2 years.

SYSTEM MANAGER(S) AND ADDRESS:

Commander, U.S. Military Entrance Processing Command, 2834 Green Bay Road, North Chicago, IL 60064-3094.

NOTIFICATION PROCEDURE:

Individuals seeking to determine if information about themselves is contained in this system of records should address written inquiries to the Commander, U.S. Military Entrance Processing Command, FOIA/PA Officer (J-1/MHR-MS-SS), 2834 Green Bay Road, North Chicago, IL 60064-3094.

Individual should provide their full name, Social Security Number (SSN), and military status or other information verifiable from the record itself.

In addition, the requester must provide a notarized statement or an unsworn declaration made in accordance with 28 U.S.C. 1746, in the following format:

If executed outside the United States: ‘I declare (or certify, verify, or state) under penalty of perjury under the laws of the United States of America that the foregoing is true and correct. Executed on (date). (Signature)’.

If executed within the United States, its territories, possessions, or commonwealths: `I declare (or certify, verify, or state) under penalty of perjury that the foregoing is true and correct. Executed on (date). (Signature)'.

RECORD ACCESS PROCEDURES:

Individuals seeking access to records about themselves contained in this system of records should address written inquiries to the Commander, U.S. Military Entrance Processing Command, FOIA/PA Officer (J-1/MHR-MS-SS), 2834 Green Bay Road, North Chicago, IL 60064-3094.

Individual should provide their full name, Social Security Number (SSN), and military status or other information verifiable from the record itself.

On personal visits, individual should provide acceptable identification such as valid driver's license, employer identification card, building pass, etc.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: ‘I declare (or certify, verify, or state) under penalty of perjury that the foregoing is true and correct. Executed on (date). (Signature)’.

CONTESTING RECORD PROCEDURES:

The Army's rules for accessing records, and for contesting contents and appealing initial agency determinations are published in the Department of the Army Regulation 340-21; 32 CFR part 505; or may be obtained from the system manager.

RECORD SOURCE CATEGORIES:

From the individual, physicians, results of tests, federal/state/local law enforcement activities/agencies.

EXEMPTIONS CLAIMED FOR THE SYSTEM:

None.

[FR Doc. 2010-27710 Filed 11-2-10; 8:45 am]

BILLING CODE 5001-06-P